DEPARTMENT OF COMMERCE

National Oceanic and Atmospheric Administration

RIN 0648-XC485

Fishing Capacity Reduction Program for the Longline Catcher Processor Subsector of the Bering Sea and Aleutian Islands Non-Pollock Groundfish Fishery

AGENCY: National Marine Fisheries Service (NMFS), National Oceanic and Atmospheric Administration, Commerce.

ACTION: Notice of fee rate adjustment.

SUMMARY: NMFS issues this notice to decrease the fee rate for the non-pollock groundfish fishery to repay the $35,000,000 reduction loan to finance the non-pollock groundfish fishing capacity reduction program.

DATES: The non-pollock groundfish program fee rate decrease is effective January 1, 2013.

ADDRESSES: Send questions about this notice to Paul Marx, Chief, Financial Services Division, National Marine Fisheries Service, 1315 East-West Highway, Silver Spring, MD 20910-3282.

FOR FURTHER INFORMATION CONTACT: Paul Marx, (301) 427-8799.

SUPPLEMENTARY INFORMATION:

I. Background

Sections 312(b)-(e) of the Magnuson-Stevens Fishery Conservation and Management Act (16 U.S.C. 1861a(b) through (e)) generally authorize fishing capacity reduction programs. In particular, section 312(d) authorizes industry fee systems for repaying reduction loans which finance reduction program costs.

Subpart L of 50 CFR part 600 is the framework rule generally implementing section 312(b)-(e).

Sections 1111 and 1112 of the Merchant Marine Act, 1936 (46 App. U.S.C. 1279f and 1279g) generally authorize reduction loans.

Enacted on December 8, 2004, section 219, Title II, of FY 2005 Appropriations Act, Public Law 104-447 (Act) authorizes a fishing capacity reduction program implementing capacity reduction plans submitted to NMFS by catcher processor subsectors of the Bering Sea and Aleutian Islands (“BSAI”) non-pollock groundfish fishery (“reduction fishery”) as set forth in the Act.

The longline catcher processor subsector (the “Longline Subsector”) is among the catcher processor subsectors eligible to submit to NMFS a capacity reduction plan under the terms of the Act.

The longline subsector non-pollock groundfish reduction program's objective was to reduce the number of vessels and permits endorsed for longline subsector of the non-pollock groundfish fishery.

All post-reduction fish landings from the reduction fishery are subject to the longline subsector non-pollock groundfish program's fee.

NMFS proposed the implementing notice on August 11, 2006 (71 FR 46364), and published the final notice on September 29, 2006 (71 FR 57696).

NMFS allocated the $35,000,000 reduction loan (A loan) to the reduction fishery and this loan is repayable by fees from the fishery.

On September 24, 2007, NMFS published in the Federal Register (72 FR 54219), the final rule to implement the industry fee system for repaying the non-pollock groundfish program's reduction loan and established October 24, 2007, as the effective date when fee collection and loan repayment began. The regulations implementing the program are located at § 600.1012 of 50 CFR part 600's subpart M.

NMFS published, in the Federal Register on November 2, 2009 (74 FR 56592), a notice to decrease the A Loan fee rate to $0.016 per pound effective January 1, 2010. On November 12, 2010, NMFS published a notice (75 FR 69401) to decrease the fee rate to $0.015 per pound, effective January 1, 2011. NMFS published a notice on November 30, 2011 (76 FR 74048) to further decrease the fee rate once more to $0.0145 per pound effective January 1, 2012.

NMFS published a final rule to implement a second $2,700,000 reduction loan (B loan) for this fishery in the Federal Register on September 24, 2012 (77 FR 58775). The loan was disbursed December 18, 2012 with fee collection of $0.001 per pound to begin January 1, 2013. This fee is in addition to the A Loan fee.

II. Purpose

The purpose of this notice is to adjust the fee rate for the reduction fishery in accordance with the framework rule's § 600.1013(b). Section 600.1013(b) directs NMFS to recalculate the fee to a rate that will be reasonably necessary to ensure reduction loan repayment within the specified 30 year term.

NMFS has determined for the reduction fishery that the current fee rate of $0.0145 per pound is more than is needed to service the A loan. Therefore, NMFS is decreasing the fee rate to $0.0111 per pound which NMFS has determined is sufficient to ensure timely loan repayment. The fee rate for the B loan will remain $0.001 per pound.

Subsector members may continue to use Pay.gov to disburse collected fee deposits at: http://www.pay.gov/ paygov/.

Please visit the NMFS Web site for additional information at: http://www.nmfs.noaa.gov/mb/financial_services/buyback.htm.

III. Notice

The new fee rate for the non-pollock Groundfish fishery is effective January 1, 2013.

From and after this date, all subsector members paying fees on the non-pollock groundfish fishery shall begin paying non-pollock groundfish fishery program fees at the revised rate. Any over-payments of landings made using the previous higher fee rate will be credited to future landings.

Fee collection and submission shall follow previously established methods in § 600.1013 of the framework rule and in the final fee rule published in the Federal Register on September 24, 2007 (72 FR 54219).

Authority: The authority for this action is Public Law 108-447, 16 U.S.C. 1861a (b-e), and 50 CFR 600.1000 et seq.

Dated: February 7, 2013.
Gary Reisner,
Director, Office of Management and Budget, National Marine Fisheries Service.

[FR Doc. 2013-03350 Filed 2-12-13; 8:45 am]

BILLING CODE 3510-22-P